DEPARTMENT OF THE INTERIOR

National Park Service

[NPS-WASO-NAGPRA-NPS0036218; PPWOCRADN0-PCU00RP14.R50000]

Notice of Inventory Completion: California State University, Los Angeles, CA

AGENCY: National Park Service, Interior.

ACTION: Notice.

SUMMARY: In accordance with the Native American Graves Protection and Repatriation Act (NAGPRA), California State University, Los Angeles has completed an inventory of human remains (hereafter referred to as “ancestors”) in consultation with the appropriate Indian Tribes or Native Hawaiian organizations and has determined that there is a cultural affiliation between the ancestors and Indian Tribes or Native Hawaiian organizations in this notice. The ancestors were removed from Mariposa County, CA.

DATES: Repatriation of the ancestors in this notice will occur on or after August 21, 2023.

ADDRESSES: Michele Bleuze, California State University, 5151 State University Drive, Los Angeles, CA 90032, telephone (323) 343-2440, email mbleuze@calstatela.edu and Amira Ainis, California State University, 5151 State University Drive, Los Angeles, CA 90032, telephone (323) 343-2449, email aainis2@calstatela.edu.

SUPPLEMENTARY INFORMATION: This notice is published as part of the National Park Service's administrative responsibilities under NAGPRA. The determinations in this notice are the sole responsibility of California State University, Los Angeles. The National Park Service is not responsible for the determinations in this notice. Additional information on the determinations in this notice, including the results of consultation, can be found in the inventory or related records held by California State University, Los Angeles.

Description

A minimum of two ancestors were removed from two burials during excavation at the Hackney Site (CA-MRP-283), in Mariposa County, CA. At the time of the excavation, Mr. Ray Hackney was the landowner of the property. The excavation was carried out by California State University, Fresno and California State University, Los Angeles in 1972. That same year, Fred M. Reinman, a faculty member in the Department of Anthropology at California State University, likely brought the collection to California State University, Los Angeles. Burial I was found tightly flexed and partially disturbed, and the decedent is estimated to be a young male (~25 years of age) with an estimated stature of 168 cm. Burial II was highly fragmentary, and the decedent is estimated to be six years old. The above information was reported by F. K. Mulligan and D. E. Sanburg, Jr., in 1972. No associated funerary objects are present.

Cultural Affiliation

The ancestors in this notice are connected to one or more identifiable earlier groups, tribes, peoples, or cultures. There is a relationship of shared group identity between the identifiable earlier groups, tribes, peoples, or cultures and one or more Indian Tribes or Native Hawaiian organizations. The following types of information were used to reasonably trace the relationship: geographical, archeological, and expert opinion.

Determinations

Pursuant to NAGPRA and its implementing regulations, and after consultation with the appropriate Indian Tribes and Native Hawaiian organizations, California State University, Los Angeles has determined that:

• Pursuant to 25 U.S.C. 3001(9), the ancestors described in this notice represent the physical remains of two individuals of Native American ancestry.

• Pursuant to 25 U.S.C. 3001(2), there is a relationship of shared group identity that can be reasonably traced between the Native American ancestors described in this notice and the Chicken Ranch Rancheria of Me-Wuk Indians of California; Northfork Rancheria of Mono Indians of California; Picayune Rancheria of Chukchansi Indians of California; Tule River Indian Tribe of the Tule River Reservation, California; and the Tuolumne Band of Me-Wuk Indians of the Tuolumne Rancheria of California.

Requests for Repatriation

Written requests for repatriation of the ancestors in this notice must be sent to the Responsible Officials identified in ADDRESSES. Requests for repatriation may be submitted by:

1. Any one or more of the Indian Tribes identified in this notice and, if joined to a request from one or more of the Indian Tribes, the Nashville Enterprise Miwok-Maidu-Nishinam Tribe; Northern Valley Yokuts; Southern Sierra Miwuk Nation; and the Wuksache Indian Tribe/Eshom Valley Band, non-federally recognized Indian groups.

2. Any lineal descendant, Indian Tribe, or Native Hawaiian organization not identified in this notice who shows, by a preponderance of the evidence, that the requestor is a lineal descendant or a culturally affiliated Indian Tribe or Native Hawaiian organization.

Repatriation of the ancestors in this notice to a requestor may occur on or after August 21, 2023. If competing requests for repatriation are received, California State University, Los Angeles must determine the most appropriate requestor prior to repatriation. Requests for joint repatriation of the ancestors are considered a single request and not competing requests. California State University, Los Angeles is responsible for sending a copy of this notice to the Indian Tribes identified in this notice.

Authority: Native American Graves Protection and Repatriation Act, 25 U.S.C. 3003, and the implementing regulations, 43 CFR 10.9, 10.10, and 10.14.

Dated: July 14, 2023.
Melanie O'Brien,
Manager, National NAGPRA Program.

[FR Doc. 2023-15518 Filed 7-20-23; 8:45 am]

BILLING CODE 4312-52-P